BROADCASTING BOARD OF GOVERNORS

Government in the Sunshine Act Meeting Change Notice

DATE AND TIME: Wednesday, December 16, 2015, 9:15 a.m.-11:30 a.m. EST.

PLACE: Cohen Building, Room 3321, 330 Independence Ave. SW., Washington, DC 20237.

SUBJECT: Notice of Meeting Change of the Broadcasting Board of Governors.

SUMMARY: The Broadcasting Board of Governors (Board) previously announced that it will be meeting at the time and location listed above. The subject matter of the meeting has been changed to add the discussion and consideration of Internet Freedom framework and governance documents.

The prompt and orderly conduct of business required this change and no earlier announcement was possible.

This meeting will be available for public observation via streamed webcast, both live and on-demand, on the agency's public Web site at www.bbg.gov. Information regarding this meeting, including any updates or adjustments to its starting time, can also be found on the agency's public Web site.

The public may also attend this meeting in person at the address listed above as seating capacity permits. Members of the public seeking to attend the meeting in person must register at http://bbgboardmeetingdecember2015.eventbrite.com by 12:00 p.m. (EST) on December 15. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2015-31780 Filed 12-14-15; 4:15 pm]

BILLING CODE 8610-01-P